SECURITIES AND EXCHANGE COMMISSION

[Release No. IC-30841]

Notice of Applications for Deregistration Under Section 8(f) of the Investment Company Act of 1940

December 20, 2013.

The following is a notice of applications for deregistration under section 8(f) of the Investment Company Act of 1940 for the month of December 2013. A copy of each application may be obtained via the Commission's Web site by searching for the file number, or for an applicant using the Company name box, at http://www.sec.gov/search/search.htm or by calling (202) 551-8090. An order granting each application will be issued unless the SEC orders a hearing. Interested persons may request a hearing on any application by writing to the SEC's Secretary at the address below and serving the relevant applicant with a copy of the request, personally or by mail. Hearing requests should be received by the SEC by 5:30 p.m. on January 14, 2014, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street NE., Washington, DC 20549-1090.

FOR FURTHER INFORMATION CONTACT: Diane L. Titus at (202) 551-6810, SEC, Division of Investment Management, Chief Counsel's Office, 100 F Street NE., Washington, DC 20549-8010.

BlackRock Alternatives Allocation Portfolio LLC [File No. 811-22642]

BlackRock Alternatives Allocation FB Portfolio LLC [File No. 811-22643]

BlackRock Alternatives Allocation TEI Portfolio LLC [File No. 811-22644]

BlackRock Alternatives Allocation FB TEI Portfolio LLC [File No. 811-22645]

Summary: Each applicant, a closed-end investment company, seeks an order declaring that it has ceased to be an investment company. Between November 26, 2013, and December 10, 2013, each applicant made a liquidating distribution to its shareholders, based on net asset value. Expenses of $15,000, $15,000, $25,000 and $25,000, respectively, incurred in connection with the liquidations were paid by applicants. Applicants have retained $49,042, $59,671, $76,452 and $77,063, respectively, in cash to pay certain outstanding liabilities.

Filing Date: The applications were filed on December 12, 2013.

Applicants' Address: 100 Bellevue Pkwy., Wilmington, DE 19809.

BlackRock High Income Shares [File No. 811-5495]

BlackRock Corporate High Yield Fund, Inc. [File No. 811-7634]

BlackRock Corporate High Yield Fund III, Inc. [File No. 811-8497]

BlackRock High Yield Trust [File No. 811-8991]

BlackRock Corporate High Yield Fund V, Inc. [File No. 811-10521]

Summary: Each applicant, a closed-end investment company, seeks an order declaring that it has ceased to be an investment company. Applicants transferred their assets to BlackRock Corporate High Yield Fund VI, Inc., and on November 18, 2013, made final distributions to their shareholders based on net asset value. Expenses of approximately $301,229, $314,259, $303,043, $244,919 and $329,737, respectively, incurred in connection with the reorganizations were paid by applicants or BlackRock Advisors, LLC, investment adviser to each applicant.

Filing Date: The applications were filed on December 6, 2013.

Applicants' Address: 100 Bellevue Pkwy., Wilmington, DE 19809.

Calvert Cash Reserves [File No. 811-3418]

Summary: Applicant seeks an order declaring that it has ceased to be an investment company. Applicant has transferred its assets to Calvert Ultra-Short Income Fund, a series of The Calvert Fund, and on September 27, 2013, made a final distribution to its shareholders based on net asset value. Expenses of approximately $24,737 incurred in connection with the reorganization were paid by applicant.

Filing Date: The application was filed on November 21, 2013.

Applicant's Address: 4550 Montgomery Ave., Suite 1125N, Bethesda, MD 20814.

UBS Eucalyptus Fund, L.L.C. [File No. 811-9583]

UBS Willow Fund, L.L.C. [File No. 811-9841]

Summary: Each applicant, a closed-end investment company, seeks an order declaring that it has ceased to be an investment company. On October 21, 2013, and November 18, 2013, respectively, applicants made final liquidating distributions to their shareholders, based on net asset value. Each applicant was responsible for expenses of $11,000 incurred in connection with the liquidations.

Filing Date: The applications were filed on November 27, 2013.

Applicants' Address: 677 Washington Blvd., Stamford, CT 06901.

Old Field Fund, LLC [File No. 811-811-21946]

Old Field Master Fund, LLC [File No. 811-21947]

Summary: Each applicant, a closed-end investment company, seeks an order declaring that it has ceased to be an investment company. On December 3, 2013, applicants made final liquidating distributions to their shareholders, based on net asset value. Applicants paid $27,100 and $40,900, respectively, for expenses incurred in connection with the liquidations.

Filing Date: The applications were filed on December 5, 2013.

Applicants' Address: 733 Third Ave., 11th Floor, New York, NY 10017.

RiverSource Government Income Series, Inc. [File No. 811-4260]

RiverSource International Series, Inc. [File No. 811-4075]

Summary: Each applicant seeks an order declaring that it has ceased to be an investment company. Applicants transferred their assets to corresponding series of Columbia Funds Series Trust, and on June 1, 2011, and April 5, 2011, respectively, made final distributions to their shareholders based on net asset value. Expenses of $232,239 and $267,688, respectively, incurred in connection with the reorganization were paid by applicants and Columbia Management Investment Advisers, LLC, applicants' investment adviser.

Filing Date: The applications were filed on December 5, 2013.

Applicants' Address: 901 Marquette Ave. South, Suite 2810, Minneapolis, MN 55402-3268.

RiverSource Market Advantage Series, Inc. [File No. 811-5897]

Summary: Applicant seeks an order declaring that it has ceased to be an investment company. Applicant transferred its assets to Columbia Funds Series Trust, and on August 9, 2011, made a final distribution to its shareholders based on net asset value. Expenses of $38,190 incurred in connection with the reorganization were paid by applicant.

Filing Date: The application was filed on December 5, 2013.

Applicant's Address: 901 Marquette Ave. South, Suite 2810, Minneapolis, MN 55402-3268.

PC&J Performance Fund [File No. 811-3906]

Summary: Applicant seeks an order declaring that it has ceased to be an investment company. On August 28, 2013, applicant made a liquidating distribution to its shareholders, based on net asset value. Expenses of $4,050 incurred in connection with the liquidation were paid by PC&J Service Corp., applicant's transfer agent.

Filing Dates: The application was filed on December 2, 2013, and amended on December 17, 2013.

Applicant's Address: 7812 McEwen Rd., Suite 400, Dayton, OH 45459.

Dreyfus Pennsylvania Municipal Money Market Fund [File No. 811-6126]

Dreyfus Massachusetts Municipal Money Market Fund [File No. 811-6273]

Summary: Each applicant seeks an order declaring that it has ceased to be an investment company. On December 21, 2012, and December 20, 2012, respectively, applicants made a liquidating distribution to their shareholders, based on net asset value. Each applicant incurred $2,087 in expenses in connection with its liquidation.

Filing Date: The applications were filed on November 18, 2013.

Applicants' Address: c/o The Dreyfus Corporation, 200 Park Ave., New York, NY 10166.

PC&J Preservation Fund [File No. 811-4204]

Summary: Applicant seeks an order declaring that it has ceased to be an investment company. All of applicant's shareholders redeemed their shares by August 28, 2013. Expenses of $4,050 incurred in connection with the liquidation were paid by PC&J Service Corp., applicant's transfer agent.

Filing Dates: The application was filed on September 18, 2013 and amended on November 22, 2013.

Applicant's Address: 7812 McEwen Rd., Suite 400, Dayton, OH 45459.

NRM Investment Co. [File No. 811-2955]

Summary: Applicant seeks an order declaring that it has ceased to be an investment company. On August 24, 2012, applicant made a liquidating distribution to its shareholders, based on net asset value. Applicant has retained approximately $2,268 for liquidating expenses. Applicant incurred expenses of approximately $17,085 in connection with the liquidation.

Filing Dates: The application was filed on March 20, 2013 and amended on December 19, 2013.

Applicant's Address: 288 Lancaster Ave., Malvern, PA 19355-1800.

For the Commission, by the Division of Investment Management, pursuant to delegated authority.
Kevin M. O'Neill,
Deputy Secretary.

[FR Doc. 2013-31135 Filed 12-27-13; 8:45 am]

BILLING CODE 8011-01-P